FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202)-523-5793 or tradeanalysis@fmc.gov.

Agreement No.: 012439-006.

Agreement Name: THE Alliance Agreement.

Parties: Hapag-Lloyd AG and Hapag-Lloyd USA LLC (acting as a single party); Ocean Network Express Pte. Ltd.; HMM Company Limited; and Yang Ming Marine Transport Corp., Yang Ming (UK) Ltd. and Yang Ming (Singapore) Pte. Ltd (acting as a single party).

Filing Party: Joshua Stein; Cozen O'Connor.

Synopsis: The amendment revises the Agreement to reflect HMM's name change from Hyundai Merchant Marine Co., Ltd. to HMM Company Limited.

Proposed Effective Date: 6/24/2020.

Location: https://www2.fmc.gov/FMC.Agreements.Web/Public/AgreementHistory/1912.

Agreement No.: 201340-001.

Agreement Name: Hyundai Glovis/Kawasaki Kisen Kaisha Ltd. Europe/United States Space Charter Agreement.

Parties: Hyundai Glovis Co., Ltd. and Kawasaki Kisen Kaisha, Ltd.

Filing Party: John Meade; “K” Line America, Inc.

Synopsis: The amendment authorizes the charter of space between both parties, expands to the geographic scope to include the inbound and outbound U.S. trades, and updates the name of the Agreement.

Proposed Effective Date: 6/24/2020.

Location: https://www2.fmc.gov/FMC.Agreements.Web/Public/AgreementHistory/29491.

Agreement No.: 201103-015.

Agreement Name: Memorandum Agreement of December 14, 1983 Concerning Assessments to Pay ILWU-PMA Employee Benefit Costs.

Parties: International Longshoremen's and Warehousemen's Union and Pacific Maritime Association.

Filing Party: Robert Magovern; Cozen O'Connor.

Synopsis: The amendment revises the divisor for the man-hour base assessment rate in the agreement, and also accordingly revises various figures set forth in Appendix 1. The amendment also adds the COVID-19 Sick Leave Plan to the list of employee fringe benefits plans established under the ILWU-PMA Pacific Coast Longshore and Clerks' Agreement and subject to the FMC Agreement.

Proposed Effective Date: 6/25/2020.

Location: https://www2.fmc.gov/FMC.Agreements.Web/Public/AgreementHistory/10164.

Dated: June 26, 2020.
Rachel Dickon,
Secretary.

[FR Doc. 2020-14238 Filed 7-1-20; 8:45 am]

BILLING CODE 6730-02-P